DEPARTMENT OF THE INTERIOR

Bureau of Indian Affairs

Indian Gaming

AGENCY: Bureau of Indian Affairs, Interior.

ACTION: Notice of approved tribal-state gaming compacts.

SUMMARY: Under section 11 of the Indian Gaming Regulatory Act of 1988 (IGRA) Public Law 100-497, 25 U.S.C. 2710, the Secretary of the Interior shall publish in the Federal Register, notice of the approved Tribal-State compacts for the purpose of engaging in Class III gaming activities on Indian lands. The Principal Deputy Assistant Secretary—Indian Affairs, Department of the Interior, through her delegated authority, has approved the Tribal-State Compacts between the Santa Ysabel Band of Diegueno Mission Indians and the La Posta Band of Mission Indians and the State of California. The Compacts authorize a 350 machine Gaming Facility on the tribes' existing reservations, requires a 5% payment of net win from the operation of gaming devices to the State for the exclusive right to operate Class III gaming devices in the State of California, and as part of the Tribes' commitment to mitigate any significant, adverse impacts resulting from the casino development, the Tribes and the State, through San Diego County, have agreed to conclude one or more written agreements. All such agreements shall be concluded prior to the commencement of the Project, and shall provide for the identification and implementation of feasible mitigation measures and feasible project alternatives concerning problem and pathological gambling and significant environmental effects.

EFFECTIVE DATE: December 22, 2003.

FOR FURTHER INFORMATION CONTACT: George T. Skibine, Director, Office of Indian Gaming Management, Bureau of Indian Affairs, Washington, DC 20240, (202) 219-4066.

Dated: December 9, 2003.
Aurene M. Martin,
Principal Deputy Assistant Secretary—Indian Affairs.

[FR Doc. 03-31474 Filed 12-19-03; 8:45 am]

BILLING CODE 4310-4N-P